DEPARTMENT OF COMMERCE

International Trade Administration

[A-570-962, C-570-963]

Certain Potassium Phosphate Salts From the People's Republic of China: Continuation of Antidumping Duty Order and Countervailing Duty Order

AGENCY: Enforcement and Compliance, International Trade Administration, Department of Commerce.

SUMMARY: As a result of the determinations by the Department of Commerce (“Department”) and the International Trade Commission (“ITC”) that revocation of the antidumping duty (“AD”) order on certain potassium phosphate salts (“salts”) from the People's Republic of China (“PRC”) would likely lead to a continuation or recurrence of dumping and material injury to an industry in the United States, the Department is publishing a notice of continuation of the antidumping duty order. As a result of the determinations by the Department and the ITC that revocation of the countervailing duty (“CVD”) order on salts from the PRC would likely lead to a continuation or recurrence of a countervailable subsidy and material injury to an industry in the United States, the Department is publishing a notice of continuation of the CVD order.

DATES: Effective Date: December 21, 2015.

FOR FURTHER INFORMATION: Ryan Mullen, AD/CVD Operations, Office V (AD Order), or Jacky Arrowsmith, AD/CVD Operations, Office VII (CVD Order), Enforcement and Compliance, International Trade Administration, U.S. Department of Commerce, 14th Street and Constitution Avenue NW., Washington, DC 20230; telephone: (202) 482-5260 or (202) 482-5255, respectively.

SUPPLEMENTARY INFORMATION:

Background

On June 1, 2010, the Department published its Final AD Determination and Final CVD Determination on salts from the PRC.¹ On July 22, 2010, the Department published the Amended Final AD Order on salts from the PRC.² On June 1, 2015, the Department published the notice of initiation of the first five-year (“sunset”) review of the AD order and CVD order on salts from the PRC pursuant to section 751(c) of the Tariff Act of 1930, as amended (the “Act”).³ As a result of its reviews, the Department determined that revocation of the AD order on salts from the PRC would likely lead to a continuation or recurrence of dumping and that revocation of the CVD order on salts from the PRC would likely lead to a continuation or recurrence of a countervailable subsidy. Therefore, the Department notified the ITC of the magnitude of the margins likely to prevail should the AD order be revoked ⁴ and the net countervailable subsidy rates likely to prevail should the CVD order be revoked.⁵ On December 10, 2015, the ITC published its determination, pursuant to section 751(c) of the Act, that revocation of the AD order and the CVD order on salts from the PRC would likely lead to a continuation or recurrence of material injury to an industry in the United States within a reasonably foreseeable time.⁶

Scope of the Order

¹ See Certain Potassium Phosphate Salts From the People's Republic of China: Final Determination of Sales at Less Than Fair Value and Termination of Critical Circumstances Inquiry, 75 FR 30377 (June 1, 2010) (“Final AD Determination”); see also Certain Potassium Phosphate Salts From the People's Republic of China: Final Affirmative Countervailing Duty Determination and Termination of Critical Circumstances Inquiry, 75 FR 30375 (June 1, 2010) (“Final CVD Determination”).

² See Certain Potassium Phosphate Salts From the People's Republic of China: Amended Final Determination of Sales at Less Than Fair Value and Antidumping Duty Order, 75 FR 42683 (July 22, 2010) (“Amended Final AD Order”).

³ See Initiation of Five-Year (“Sunset”) Review, 80 FR 31012 (June 1, 2015).

⁴ See Certain Potassium Phosphate Salts from the People's Republic of China: Final Results of Expedited First Sunset Review of the Antidumping Duty Order, 80 FR 60122 (October 5, 2015) and accompanying Issues and Decision Memorandum.

⁵ See Potassium Phosphate Salts from the People's Republic of China: Final Results of Expedited First Sunset Review of the Countervailing Duty Order, 80 FR 60121 (October 5, 2015) and accompanying Issues and Decision Memorandum.

⁶ See Potassium Phosphate Salts from China, 80 FR 76708 (December 10, 2015); Potassium Phosphate Salts from China (Inv. Nos. 701-TA-473 and 731-TA-1173 (Review), USITC Publication 4584, December 2015).

The phosphate salts covered by the scope of the order include anhydrous Dipotassium Phosphate (DKP) and Tetrapotassium Pyrophosphate (TKPP), whether anhydrous or in solution (collectively “phosphate salts”).

TKPP, also known as normal potassium pyrophosphate, Diphosphoric acid or Tetrapotassium salt, is a potassium salt with the formula K4P2O7. The CAS registry number for TKPP is 7320-34-5. TKPP is typically 18.7% phosphorus and 47.3% potassium. It is generally greater than or equal to 43.0% P2O5 content. TKPP is classified under heading 2835.39.1000, HTSUS.

DKP, also known as Dipotassium salt, Dipotassium hydrogen orthophosphate or Potassium phosphate, dibasic, has a chemical formula of K2HPO4. The CAS registry number for DKP is 7758-11-4. DKP is typically 17.8% phosphorus, 44.8% potassium and 40% P2O5 content. DKP is classified under heading 2835.24.0000, HTSUS.

The products covered by this order include the foregoing phosphate salts in all grades, whether food grade or technical grade. The products covered by this order also include anhydrous DKP without regard to the physical form, whether crushed, granule, powder or fines. Also covered are all forms of TKPP, whether crushed, granule, powder, fines or solution.

For purposes of the order, the narrative description is dispositive, and not the tariff heading, American Chemical Society, CAS registry number or CAS name, or the specific percentage chemical composition identified above.

Continuation of the Order

As a result of the determinations by the Department and the ITC that revocation of the AD order would likely lead to a continuation or recurrence of dumping and that revocation of the CVD order would likely lead to continuation or recurrence of a countervailable subsidy and material injury to an industry in the United States, pursuant to section 751(d)(2) of the Act, the Department hereby orders the continuation of the AD and CVD orders on salts from the PRC. U.S. Customs and Border Protection will continue to collect AD and CVD cash deposits at the rates in effect at the time of entry for all imports of subject merchandise.

The effective date of the continuation of the AD and CVD orders will be the date of publication in the Federal Register of this notice of continuation. Pursuant to section 751(c)(2) of the Act, the Department intends to initiate the next sunset review of the AD order and CVD order not later than 30 days prior to the fifth anniversary of the effective date of continuation. These sunset reviews and this notice are in accordance with section 751(c) of the Act and published pursuant to section 777(i)(1) of the Act and 19 CFR 351.218(f)(4).

Dated: December 15, 2015.
Paul Piquado,
Assistant Secretary for Enforcement and Compliance.

[FR Doc. 2015-32020 Filed 12-18-15; 8:45 am]

BILLING CODE 3510-DS-P